SURFACE TRANSPORTATION BOARD

Senior Executive Service Performance Review Board (PRB) and Executive Resources Board (ERB) Membership

AGENCY: Surface Transportation Board.

ACTION: Notice of Senior Executive Service Performance Review Board (PRB) and Executive Resources Board (ERB) Membership.

SUMMARY: Effective immediately, the membership of the PRB and ERB is as follows:

Performance Review Board

William Brennan, Chairman

Rachel Campbell, Member

Craig M. Keats, Member

Executive Resources Board

Rachel Campbell, Chairman

William Brennan, Member

Craig M. Keats, Member

FOR FURTHER INFORMATION CONTACT: If you have any questions, please contact Jennifer Layne at jennifer.layne@stb.gov or 202-245-0340.

Jeffrey Herzig,
Clearance Clerk.

[FR Doc. 2021-17685 Filed 8-17-21; 8:45 am]

BILLING CODE 4915-01-P